DEPARTMENT OF ENERGY

Federal Energy Regulatory Commission

[Project No. 2485-063]

FirstLight Hydro Generating Company; Notice of Dispute Resolution Panel Meeting and Technical Conference

On March 28, 2014, Commission staff, in response to the filing of a Notice of Study Dispute by the U.S. Fish and Wildlife Service (FWS) on March 13, 2014, convened a single three-person Dispute Resolution Panel (Panel) pursuant to 18 CFR 5.14(d).

The Panel will hold a technical conference at the time and place identified below. The technical conference will address the study dispute regarding the need to quantify the entrainment of American shad eggs and larvae into the Northfield Mountain Pumped Storage Project (P-2485) as requested by FWS in its study request filed on March 4, 2014.

The purpose of the technical session is for the disputing agency, applicant, and Commission to provide the Panel with additional information necessary to evaluate the disputed study. All local, state, and federal agencies, Indian tribes, and other interested parties are invited to attend the meeting as observers. The Panel may also request information or clarification on written submissions as necessary to understand the matters in dispute. The Panel will limit all input that it receives to the specific study or information in dispute and will focus on the applicability of the study or information to the study criteria stipulated in 18 CFR 5.9(b). If the number of participants wishing to speak creates time constraints, the Panel may, at its discretion, limit the speaking time for each participant.

If you have any questions, please contact Bill Connelly, Dispute Resolution Panel Chair, at william.connelly@ferc.gov or (202) 502-8587.

Technical Conference

Date: Tuesday, April 8, 2014.

Time: 9:00 a.m.-4:00 p.m. (EDT).

Place: Northfield Mountain Visitor Center, 99 Millers Falls Road (Route 63), Northfield, MA 01360.

Dated: March 31, 2014.
Kimberly D. Bose,
Secretary.

[FR Doc. 2014-07534 Filed 4-3-14; 8:45 am]

BILLING CODE 6717-01-P